Title 3—

The President

Proclamation 8145 of May 15, 2006

Prayer for Peace, Memorial Day, 2007

By the President of the United States of America

A Proclamation

On Memorial Day, Americans pause with solemn gratitude and deep respect for all our fallen service men and women who have given their lives for our country and our freedom.

Through the generations, the courageous and selfless patriots of our Armed Forces have secured our liberty and borne its great and precious cost. When it has mattered most, patriots from every corner of our Nation have taken up arms to uphold the ideals that make our country a beacon of hope and freedom for the entire world. By answering the call of duty with valor and unrelenting determination, they have set a standard of courage and idealism that inspires us all.

All Americans honor the memory of the lives that have been lost in defense of our freedom. Our Nation mourns them, and their example of strength and perseverance gives us resolve. We are also thankful to those who have stood by our service men and women in times of war and times of peace.

Today, the members of our Armed Forces follow in a proud tradition handed down to them by the heroes that served before them. They are protecting our Nation, advancing the blessings of freedom, and laying the foundation for a more peaceful tomorrow through service that exemplifies the good and decent character of our Nation. America is grateful to all those who have worn the uniform of the Armed Forces of the United States, and we will never forget their sacrifices for our liberty.

On Memorial Day, we honor all those who have fallen by remembering their noble sacrifice for freedom. We also pray for our troops, their families, and for the peace we all seek.

In respect for their devotion to America, the Congress, by a joint resolution approved on May 11, 1950, as amended (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby proclaim Memorial Day, May 28, 2007, as a day of prayer for permanent peace, and I designate the hour beginning in each locality at 11:00 a.m. of that day as a time to unite in prayer. I also ask all Americans to observe the National Moment of Remembrance beginning at 3:00 p.m., local time, on Memorial Day. I encourage the media to participate in these observances. I also request the Governors of the United States and the Commonwealth of Puerto Rico, and the appropriate officials of all units of government, to direct that the flag be flown at half staff until noon on this Memorial Day on all buildings, grounds, and naval vessels throughout the United States, and in all areas under its jurisdiction and control. I also request the people of the United States to display the flag at half staff from their homes for the customary forenoon period.

IN WITNESS WHEREOF, I have hereunto set my hand this fifteenth day of May, in the year of our Lord two thousand seven, and of the Independence of the United States of America the two hundred and thirty-first.

[FR Doc. 07-2533

Filed 5-17-07; 11:29 am]

Billing code 3195-01-P